DEPARTMENT OF ENERGY

Federal Energy Regulatory Commission

Combined Notice of Filings

Take notice that the Commission has received the following Natural Gas Pipeline Rate and Refund Report filings:

Filings Instituting Proceedings

Docket Numbers: RP15-237-000.

Applicants: MarkWest Pioneer, L.L.C.

Description: § 4(d) rate filing per 154.403(d)(2): MarkWest Pioneer Quarterly FRP Filing to be effective 1/1/2015.

Filed Date: 12/2/14.

Accession Number: 20141202-5054.

Comments Due: 5 p.m. ET 12/15/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-1275-001.

Applicants: Mojave Pipeline Company, L.L.C.

Description: Compliance filing per 154.203: Tariff Compliance Filing to be effective 1/1/2015.

Filed Date: 12/2/14.

Accession Number: 20141202-5082.

Comments Due: 5 p.m. ET 12/15/14.

Docket Numbers: RP15-173-001.

Applicants: Empire Pipeline, Inc.

Description: Tariff Amendment per 154.205(b): Correction to Effective Date in RP15-173 to be effective 12/14/2014.

Filed Date: 12/2/14.

Accession Number: 20141202-5145.

Comments Due: 5 p.m. ET 12/15/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2014.
Nathaniel J. Davis, Sr.,
Deputy Secretary.

[FR Doc. 2014-28864 Filed 12-9-14; 8:45 am]

BILLING CODE 6717-01-P